DEPARTMENT OF AGRICULTURE

Forest Service

Malheur National Forest, Blue Mountain Ranger District and Umatilla National Forest, North Fork John Day Ranger District; Oregon; Ragged Ruby Project

AGENCY: Forest Service, USDA.

ACTION: Notice of intent to prepare an environmental impact statement.

SUMMARY: The Forest Service will prepare an environmental impact statement (EIS) to disclose the environmental effects of upland restoration activities; watershed, fisheries, and wildlife restoration; bat gate installation; prescribed burning; road activities; and recreation system changes in the Ragged Ruby planning area.

DATES: Comments concerning the scope of the analysis must be received by 30 days from date of publication in the Federal Register, which initiates the project's scoping period. The draft environmental impact statement is expected January 2018 and the final environmental impact statement is expected July 2018.

ADDRESSES: Send written comments to Dave Halemeier, District Ranger, Blue Mountain Ranger District, c/o Sasha Fertig, P.O. Box 909, John Day, OR 97845. Comments may also be sent via email to comments-pacificnorthwest-malheur-bluemountain@fs.fed.us, or via facsimile to 541-575-3319.

FOR FURTHER INFORMATION CONTACT: Sasha Fertig, NEPA Planner, Blue Mountain Ranger District, 431 Patterson Bridge Road, P.O. Box 909, John Day, OR 97845. Phone: 541-575-3061. Email: sashafertig@fs.fed.us.

Individuals who use telecommunication devices for the deaf (TDD) may call the Federal Information Relay Service (FIRS) at 1-800-877-8339 between 8 a.m. and 8 p.m., Eastern Time, Monday through Friday.

SUPPLEMENTARY INFORMATION: The Ragged Ruby planning area encompasses approximately 34,000 acres in the Granite Boulder Creek and Balance Creek subwatersheds that drain into the Middle Fork John Day River. The legal description for the planning area includes Townships 10 and 11 South, Ranges 33 and 34 East, Willamette Meridian, Grant County, Oregon. The full scoping package is available on the Malheur National Forest Web site: https://www.fs.usda.gov/project/?project=49392.

Purpose and Need for Action

The purpose and need for the Ragged Ruby Project was developed by comparing the management objectives and desired conditions in the Malheur and Umatilla Forest Plans to the existing conditions in the Ragged Ruby planning area related to forest and watershed resiliency and function. The purpose and need is to: Maintain and improve landscape resiliency and manage for diverse forest composition, stocking levels, and pattern to maintain healthy ecological function and process within a complex disturbance regime of wildfire, drought, insects, and diseases; promote forest conditions that allow for the reintroduction of fire upon the landscape, thereby creating conditions that are conducive for firefighter safety, resource values, and private lands; improve aquatic resource conditions; improve wildlife habitat; improve one or more of the nine roadless area characteristics (as defined by the 2001 Roadless Area Conservation Rule) within the Dixie Butte and Greenhorn Mountain inventoried roadless areas and restore the characteristics of ecosystem composition and structure within the range of variability that would be expected to occur under natural disturbance regimes of the current climatic period; and contribute to the social and economic health of those enjoying multiple uses in the Ragged Ruby planning area.

Proposed Action

The proposed action includes:

(1) Upland restoration on approximately 9,030 acres. Activities types include dry pine restoration, mixed conifer restoration, aspen restoration, scabland flat bunchgrass restoration, and whitebark pine and western white pine restoration. Upland restoration activities would help restore forest structure, composition, and density toward more resilient vegetative conditions.

(2) Watershed, fisheries, and wildlife restoration that includes ecological riparian treatments (variable density thinning, openings, leave areas, tree tipping, and potential removal within riparian habitat conservation areas) and large wood treatments (placement of trees within streams and floodplains).

(3) Bat gate installation at 2 mine adits using an existing road or pack stock.

(4) Prescribed burning on up to 34,000 acres to restore and maintain an ecosystem that would thrive with the recurring disturbance of wildfire within the planning area. Treated stands would see a combination of burning piled material and underburning. Those stands not mechanically treated would be managed exclusively with the use of prescribed burning. As conditions and stand characteristics allow, natural ignitions within the planning area would be used to meet the objectives of prescribed burning.

(5) Road activities that support implementing upland restoration and other project activities as well as road system changes. Road maintenance and reconstruction for haul would occur on open or temporarily opened roads to provide safe access and adequate drainage. Temporary roads (approximately 10 miles) would be constructed to access some timber harvest units, which would be rehabilitated following use. The following changes to the road system are proposed: decommissioning 1.9 miles of road, closing 6.4 miles of currently open road, confirming the previous administrative closure of 26.7 miles or road, opening 2.8 miles of currently closed road, relocating 0.2 miles of road, and adding 2.5 miles existing roadbed onto system as closed road.

(6) Recreation system changes to improve or maintain quality recreational opportunities by reducing user conflicts on the current trail system, improving access to trail systems, mitigating resource concerns, and providing family friendly and Americans with Disability Act (ADA) accessible trails. Seven trails and their associated trailheads would be improved with 3.3 miles of new trail construction, 9.1 miles of trail co-designated on existing roads, 5.1 miles of trails being un-designated, and 18.7 miles of trail remaining on the system.

Preliminary connectivity corridors have been identified between late and old structure stands to allow for movement of old-growth dependent species. The goal of creating “connectivity” is to manage stands in corridors at higher canopy densities when compared to more intensively managed stands located outside of corridors.

The Ragged Ruby Project will also include a variety of project design criteria that serve to mitigate impacts of activities to forest resources, including wildlife, soils, watershed condition, aquatic species, riparian habitat conservation areas, heritage resources, visuals, rangeland, botanical resources, and invasive plants. The proposed action may also include amendments to the Malheur National Forest Land and Resource Management Plan, as amended: dedicated old growth unit changes, reduce satisfactory and/or total cover, removal of trees greater than or equal to 21 inches diameter at breast height, and harvest within late and old structure stands.

Possible Alternatives

The Forest Service will consider a range of alternatives. One of these will be the “no action” alternative in which none of the proposed action would be implemented. Additional alternatives may be included in response to issues raised by the public during the scoping process or due to additional concerns for resource values identified by the interdisciplinary team.

Responsible Official

The Forest Supervisor of the Malheur National Forest, 431 Patterson Bridge Road, John Day, OR 97845, is the Responsible Official. As the Responsible Official, I will decide if the proposed action will be implemented. I will document the decision and rationale for the decision in the Record of Decision. I have delegated the responsibility for preparing the draft EIS and final EIS to the District Ranger, Blue Mountain Ranger District.

Nature of Decision To Be Made

Based on the purpose and need, the Responsible Official reviews the proposed action, the other alternatives, the environmental consequences, and public comments on the analysis in order to make the following decision: (1) Whether to implement the proposed activities; and if so, how much and at what specific locations; (2) What, if any, specific project monitoring requirements are needed to assure project design criteria and mitigation measures are implemented and effective, and to evaluate the success of the project objectives.

Scoping Process

This notice of intent initiates the scoping process, which guides the development of the environmental impact statement. The interdisciplinary team will continue to seek information and comments from Federal, State, and local agencies, Tribal governments, and other individuals or organizations that may be interested in, or affected by, the proposed action. There is a collaborative group in the area that the interdisciplinary team will interact with during the analysis process.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: March 17, 2017.
Jeanne M. Higgins,
Associate Deputy Chief, National Forest System.

[FR Doc. 2017-05826 Filed 3-23-17; 8:45 am]

BILLING CODE 3411-15-P